ENVIRONMENTAL PROTECTION AGENCY

[FRL-7096-7]

RIN 2040-AB75

Meeting of the Research Working Group of the National Drinking Water Advisory Council; Notice of Public Meeting

AGENCY: Environmental Protection Agency.

ACTION: Notice.

SUMMARY: Under section 10(a)(2) of Public Law 92-423, “The Federal Advisory Committee Act,” notice is hereby given that a meeting of the Drinking Water Research Working Group of the National Drinking Water Advisory Council established under the Safe Drinking Water Act, as amended (42 U.S.C. S300F et seq.), will be held on November 28-29, 2001. The meeting will begin at 9 a.m. on the 28th and end by 4 p.m. on the 29th, at RESOLVE, 1255 23rd Street, NW., Suite 275, Washington, DC 20037. The meeting will be open to the public to observe and statements will be taken from the public as time allows. Seating is limited.

This is the third meeting of the Drinking Water Research Working Group. The purpose of this working group is to provide advice to NDWAC as it develops recommendations for EPA on a Comprehensive Drinking Water Research Strategy (as required under the Safe Drinking Water Act) that will consider a broad range of research needs to support the Agency's drinking water regulatory activities. The research strategy will include an assessment of research needs for microbes and disinfection by-products (M/DBPs), arsenic, contaminants on the Contaminants Candidate List (CCL), and other critical cross-cutting issues, such as sensitive subpopulations, distribution systems, contaminants mixtures, future scenarios and source water assessment. The majority of this meeting (1.5 days) will be a workshop on futures scenarios. During the first half of November 28th, the working group will also discuss the status of the cross-cutting issues and criteria for prioritizing research.

FOR FURTHER INFORMATION CONTACT: For more information, please contact Maggie Javdan, U.S. EPA, Office of Ground Water and Drinking Water, Mailcode 4607, 1200 Pennsylvania Avenue, NW., Washington, DC 20460. Phone number: (202)-260-9862. E-mail: javdan.maggie@epa.gov.

Dated: October 23, 2001.
Evelyn Washington,
Deputy Office Director, Office of Ground Water and Drinking Water.

[FR Doc. 01-27381 Filed 10-30-01; 8:45 am]

BILLING CODE 6560-50-P